DEPARTMENT OF COMMERCE

Census Bureau

Proposed Information Collection; Comment Request; 2010 Decennial Census-American Samoa, the Commonwealth of the Northern Mariana Islands, Guam, and the U.S. Virgin Islands

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 19, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of questionnaires and instructions should be directed to Frank Vitrano, U.S. Census Bureau, Room 3H174, Washington, DC 20233-9200, 301-763-3961 (or via Internet at: frank.a.vitrano@census.gov).

SUPPLEMENTARY INFORMATION:

I. Abstract

The Census Bureau will conduct the 2010 Census operations in American Samoa, the Commonwealth of the Northern Mariana Islands, Guam, and the U.S. Virgin Islands (collectively referred to as the Island Areas) in partnership with the Government of each Island Area.

The United States Constitution mandates that a census of the Nation's population be taken every ten years. In Title 13, U.S. Code, the Congress gave the Secretary of Commerce (delegated to the Director of the Census Bureau) authority to undertake the decennial census. The geographic scope of the decennial census is specified in Title 13 U.S.C., Section 191 as covering the 50 states, the District of Columbia, Puerto Rico, the U.S. Virgin Islands of the United States, the Commonwealth of the Northern Mariana Islands, Guam, and any other areas as may be determined by the Department of State. In the 2010 Census, Census also will enumerate the Pacific Island Area of American Samoa.

The Census Bureau's goal in the 2010 Census is to take the most accurate and cost-effective census possible. The goal in selecting the 2010 Census questionnaire content for the Island Areas is to fulfill the many statutory data requirements of Federal agencies, as well as the needs of the Island Areas to administer governmental programs. Census data are the definitive benchmark for virtually all demographic information used by the Island Areas and local governments, policy makers, educators, journalists, and community and nonprofit organizations.

Each Island Area government was asked to form an Interagency Committee, composed of data users from the public, and private sectors, to review the Census 2000 questionnaire and make recommendations for the 2010 Census. Based on the Census Bureau's review of the subject recommendations submitted by the Island Areas Interagency Committees, there will be one questionnaire for the Pacific Island Areas and a separate one for the U.S. Virgin Islands.

The Census Bureau will collect demographic, social, economic, and housing characteristics from the Island Areas population. Many of the questions included on the questionnaires are the same as those on the stateside decennial census short form and the American Community Survey long-form questionnaires. Other questions, as recommended by the Island Areas Interagency Committees, are modifications of stateside questions, or questions that reflect the unique social, economic, and climatic characteristics of these areas. There will be no sampling for content in the Island Areas; all forms distributed will be long-forms.

In the process of developing the data collection forms, the Census Bureau has tried to reduce respondent burden by including only those questions that are required in Federal or local law, or implied in the data requirements for the participation in Federal or local government programs.

II. Method of Collection

The Census Bureau will develop and sign a Memorandum of Agreement with the Governor of each of the Island Areas that outlines the mutual roles and responsibilities of each party in the conduct of the 2010 Census for each Island Area.

A. Delivery Strategy for Questionnaires and Letters

The Census Bureau will conduct a blanket mailing of unaddressed Advance Census Reports (ACRs) to residential customers in each of the Island Areas. Housing units also will receive an advance letter before questionnaire delivery. Enumerators will visit each housing unit and pick up a completed ACR or conduct an interview with an Enumerator Questionnaire (EQ), if the respondent did not complete the ACR. Enumerators also will develop an address list for the area and map spot the location of each housing unit at the time of enumeration. This operation is called list/enumerate.

In summary, mailings will include:

• An advance notice letter that alerts households that the census form will be sent to them soon, and

• An initial mailing package that includes the ACR

If the mailed ACR is not completed upon arrival, the enumerator will conduct an interview using an EQ.

B. Group Quarters (GQ) Operation

1. Group Quarters Advance Visit (GQAV): The GQAV operation informs the GQ contact person of the upcoming GQ enumeration, addresses privacy and confidentiality concerns relating to personal identifiable information, and identifies any security issues, such as restricted access, required credentials, etc. Crew leaders visit all GQs and conduct an interview with the designated contact person to verify the GQ name, address, contact name, and phone number, and obtain an agreed upon date and time to conduct the enumeration and an expected Census Day population. The information collected during the interview is used to prepare the correct amount of census materials needed to conduct the enumeration at the facility.

2. Group Quarters Enumeration (GQE): The GQE operation will be conducted at the Group Quarters on the date agreed upon during the Advance Visit. During the GQE, three different enumeration methods can be used to enumerate the population: (1) Interview residents in group quarters like college dormitories; (2) distribute questionnaire packets for residents in colleges and universities to complete; and (3) use administrative records in places where it is disruptive or unsafe for Census personnel, such as prisons. Enumerators will visit group quarters to develop a control list of all residents and distribute census questionnaires (Individual Census Reports or ICRs) for residents to complete, interview the residents and enter the data on the ICR, or use administrative records to complete the ICR. Enumerators collect and review completed ICRs to ensure that they are complete and legible. They also will complete an ICR for any resident on the control list who did not complete one.

3. Service-Based Enumeration (SBE): The SBE is designed to enumerate people experiencing homelessness and who may otherwise be missed during the enumeration of housing units and group quarters. People are enumerated at places where they receive services and at targeted non-sheltered outdoor locations. SBE locations likely will include shelters for people experiencing homelessness (emergency and transitional shelters, and hotels and motels providing shelter for people experiencing homelessness), domestic violence shelters, soup kitchens, regularly scheduled mobile food van stops, and targeted non-sheltered outdoor locations. This operation is conducted to provide an opportunity for people experiencing homelessness to be included in the census.

4. Military Group Quarters Enumeration: Military Group Quarters Enumeration is a special component of the GQE designed to enumerate military personnel assigned to barracks, dormitories, military treatment facilities, and disciplinary barracks and jails. Military Census Reports (MCRs) are distributed to the residents of the military facilities. (Military families living in housing units on bases are enumerated using the list/enumerate methodology.) For people living or staying in Military GQs, the Census Bureau provides enumeration procedures, training and questionnaires to military personnel on the base who then conduct the actual enumeration. During the military enumeration, designated base personnel distribute census questionnaires to all military personnel assigned to the GQs, including all people in the disciplinary barracks and jails. Within a few days, base personnel collect the completed questionnaires, obtaining census information for any missing cases. Census staff return to the base to collect the completed questionnaires.

5. Military/Vessels Enumeration (MVE) in the Pacific Island Areas (PIAs): The MVE is a special component of Group Quarters Enumeration designed to enumerate people residing on U.S. military ships in operation in the PIAs at the time of the census. This is also sometimes called “Shipboard Enumeration.” The MVE uses questionnaires which are distributed to every military vessel home-ported in the PIAs. The Census Bureau provides enumeration procedures, training, and questionnaires to personnel on the vessels who then conduct the actual enumeration. Designated vessel personnel distribute the census questionnaires to those living on the vessels, collect the completed questionnaires, and return them to the Local Census Offices in the PIAs.

C. Field Follow-Up (FFU) Operations

The field follow-up operation tries to improve data quality and coverage by correcting Assignment Areas (AAs) with failed edit or missing questionnaires. Additionally, enumerators will also confirm that housing units are correctly classified as vacant units.

1. Failed-Edit Questionnaires: During the clerical edit operation, questionnaires are examined by the Local Census Office (LCO) clerks for completeness. Missing person or housing data are identified. Questionnaires which fail the office edit operation are assigned to LCO clerks to attempt a telephone interview with the households for which telephone numbers were provided on the questionnaires. Households that did not provide telephone numbers must be visited by enumerators to obtain the missing data.

2. Missing Questionnaires: After the initial field office merge operation is conducted, addresses are identified in the address registers for which there are no questionnaires. Enumerators will visit these addresses and complete questionnaires for each address.

3. Vacant/Delete Check (VDC) Field Operation: The VDC Operation is an independent follow-up of selected addresses that are classified as vacant or delete. These addresses are assigned to a different enumerator than the enumerator who made the original classification. Enumerators will verify the Census Day (April 1, 2010) status of the assigned addresses and complete a census questionnaire for all VDC cases. In cases where a housing unit looks visibly demolished, the enumerator must conduct an interview with a proxy respondent (e.g., neighbor or mailman) to confirm that the housing unit was vacant on Census Day. If the housing unit looks occupied, an interview will be conducted with a household member to confirm the status of the unit on Census Day. Although the VDC workload is comprised of only cases identified as vacant, the VDC enumerator may determine that a case is vacant or occupied.

III. Data

OMB Control Number: None.

Form Numbers:

Letters:

D-5(L) AS, Advance Letter—AS

D-5(L) CNMI, Advance Letter—CNMI

D-5(L) G, Advance Letter—Guam

D-5(L) VI, Advance Letter—USVI (English, Spanish)

D-13(L) AS, Cover Letter for Advanced Census Report—AS

D-13(L) CNMI, Cover Letter for Advanced Census Report—CNMI

D-13(L) G, Cover Letter for Advanced Census Report—Guam

D-13(L) VI, Cover Letter for Advanced Census Report—USVI (English, Spanish)

Questionnaires

D-13 AS, Advanced Census Report—AS

D-13 CNMI, Advanced Census Report—CNMI

D-13 G, Advanced Census Report—Guam

D-13 VI, Advanced Census Report—USVI

D-2(E) AS, Enumerator Questionnaire—AS

D-2(E) CNMI, Enumerator Questionnaire—CNMI

D-2(E) G, Enumerator Questionnaire—Guam

D-2(E) VI, Enumerator Questionnaire—USVI (English)

D-2(E) VI Spanish, Enumerator Questionnaire—USVI (Spanish)

D-2(E) SUPP AS, Enumerator Continuation Questionnaire—AS

D-2(E) SUPP CNMI, Enumerator Continuation Questionnaire—CNMI

D-2(E) SUPP G, Enumerator Continuation Questionnaire—Guam

D-2(E) SUPP VI, Enumerator Continuation Questionnaire—USVI

D-2(E) SUPP VI Spanish, Enumerator Continuation Questionnaire—USVI Spanish

D-20 PI, Individual Census Report—Pacific Islands

D-20 VI, Individual Census Report—USVI

D-21 PI, Military Census Report

D-23 PI, Shipboard Census Report—Pacific Islands

Job Aids:

D-1(F) PI, Enumerator Job Aid—Pacific Islands

D-1(F) VI, Enumerator Job Aid—USVI

Notices:

D-26 PI, Notice of Visit—Pacific Islands

D-26 VI, Notice of Visit—USVI

D-31 PI, Confidentiality Notice—Pacific Islands

D-31 VI, Confidentiality Notice—USVI.

Type of Review: Regular submission.

Affected Public: Individuals or households.

Estimated Number of Respondents: 11,100 households in American Samoa; 19,400 households in the Commonwealth of the Northern Mariana Islands; 52,500 households in Guam; 55,300 households in the U.S. Virgin Islands.

Estimated Time Per Response: American Samoa Census Form: 64 minutes; the Commonwealth of the Northern Mariana Islands Census Form: 47 minutes; Guam Census Form: 43 minutes; the U.S. Virgin Islands Census Form: 42 minutes.

Estimated Total Annual Burden Hours: American Samoa Census Form: 11,840 hours; the Commonwealth of the Northern Mariana Islands Census Form: 15,197; Guam Census Form: 37,625 hours; the U.S. Virgin Islands Census Form: 38,710 hours.

Estimated Total Annual Cost: $0.

Respondent's Obligation: Mandatory.

Legal Authority: Title 13 U.S.C. Sections 141 and 191.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 16, 2008.
Gwellnar Banks,
Management Analyst, Office of the Chief Information Officer.

[FR Doc. E8-13906 Filed 6-19-08; 8:45 am]

BILLING CODE 3510-07-P